DEPARTMENT OF HEALTH AND HUMAN SERVICES

Health Resources and Services Administration

Agency Information Collection Activities: Submission to OMB for Review and Approval; Public Comment Request; Ryan White HIV/AIDS Program: Expenditures Forms, OMB No. 0915-xxxx—New

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than June 30, 2023.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the HRSA Information Collection Clearance Officer, at paperwork@hrsa.gov or call (301) 443-3983.

SUPPLEMENTARY INFORMATION:

Information Collection Request Title: Ryan White HIV/AIDS Program: Expenditures Forms, OMB No. 0915-xxxx—New.

Abstract: HRSA administers the Ryan White HIV/AIDS Program (RWHAP) authorized under Title XXVI of the Public Health Service Act. The RWHAP Allocations and Expenditures Reports (A&E Reports) allow HRSA to monitor and track the use of grant funds for compliance with program and grants policies, and requirements as outlined in the legislation.

A&E Reports: Recipients funded under RWHAP Parts A, B, C, and D are required to report financial data to HRSA at the beginning (Allocations Report) and at the end (Expenditures Report) of their grant budget period. The A&E Reports request information recipients already collect, including the use of RWHAP grant funds for core medical and support services; and on various program components, such as administration, planning and evaluation, and clinical quality management. RWHAP Parts A and B recipients funded under the Ending the HIV Epidemic in the U.S. (EHE) initiative are also required to report allocations and expenditures of the grant budget period in the EHE A&E Reports. This allows HRSA to track and report progress toward meeting the EHE goals.

The reports are similar in content; however, in the first report, recipients document the allocation of their RWHAP or EHE grant award at the beginning of their grant budget period. In the second report, recipients document actual expenditures of their RWHAP or EHE grant award (including any carryover dollars) at the end of their grant budget period.

HRSA is proposing the following updates to the RWHAP Expenditure Reports.

RWHAP Part A Expenditures Report:

• Revising row and column headers and other language for clarity and alignment with RWHAP requirements;

• Combining the columns for RWHAP Part A Formula and Supplemental Expenditure amounts and updating the title;

• Moving the Prior Fiscal Year (FY) Carryover column row after the Current FY column and updating the title;

• Moving the RWHAP Part A Minority AIDS Initiative (MAI) Award Amount row after the RWHAP Part A Supplemental Award Amount row;

• Re-ordering the MAI rows in the “RWHAP Part A and MAI Service Category Expenditures” table as follows: 3. RWHAP Part A Supplemental Award, 4. RWHAP Part A MAI Award Amount, 5. RWHAP Part A MAI Carryover Amount;

• Updating calculations and language in the Legislative Requirements Checklist; and

• Adding a requirement for Financial Officer/Designee to certify subrecipient aggregated administrative expenditures.

RWHAP Part B Expenditures Report:

• Revising rows and column headers and other language for clarity and alignment with RWHAP requirements;

• Adding the following rows to Table 1: 4b. RWHAP Part B HIV Care Consortia Planning & Evaluation and 4c. RWHAP Part B HIV Care Consortia Clinical Quality Management (CQM);

• Blacking out selected cells in the following rows, columns, or tables:

• 5. Total (including carryover) Percent column:

• (4a-4c) RWHAP Part B HIV Care Consortia Admin, Planning & Evaluation (P&E), and CQM

• (6) RWHAP Part B CQM

• (7) RWHAP Part B Recipient P&E Activities

• (8) Recipient Administration

• (9) Column Totals

• (10) Total RWHAP Part B Expenditures (excluding carryover);

• 2. RWHAP Part B Health Insurance Premium & Cost Sharing Assistance and 3. RWHAP Part B Home and Community-based Health Services' amounts and percent:

• (1) Base Award

• (2) AIDS Drug Assistance Program (ADAP) Earmark + ADAP Supplemental

• (3) Emerging Communities Award

• (4) Total Prior FY Carryover

• (5) Total (Including Carryover);

• 4b. RWHAP Part B HIV Care Consortia P&E and 4c. RWHAP Part B HIV Care Consortia CQM:

• (1) Base Award: Prior FY Carryover

• (2) ADAP Earmark + ADAP Supplemental: Prior FY Carryover, Current FY and Percent

• (3) Emerging Communities Award: Prior FY Carryover

• (4) Total Prior FY Carryover: Amount and Percent;

• MAI Expenditure by Program Component:

• (3) CQM: Prior FY Carryover amount & percent

• (4) Recipient Planning & Evaluation Activities: Prior FY Carryover amount & percent

• (5) Recipient Administration: Prior FY Carryover amount & percent

• (6) Total MAI Expenditures; and percent

• Adding a new row: (10) Total RWHAP Part B Expenditures (excluding carryover);

• Displaying previously blacked out cells in the following two rows under the Expenditures Categories table:

• d. Health Insurance Premium and Cost Sharing Assistance for Low-Income Individuals and e. Home and Community-Based Health Services

• (2) Direct Services

• (3) Emerging Communities

• (4) Prior FY Carryover;

• Updating calculations and language in the Legislative Requirements Checklist;

• Removing Consortia Administration and Emerging Communities Administration from the Legislative Requirement from Legislative Requirement;

• Removing the following services under the Legislative Requirements Checklist's Core Medical Services:

Health Insurance Premium & Cost Sharing Assistance

Home and Community-based Health Services

• Adding requirement for a Financial Officer/Designee to certify subrecipient aggregated administrative expenditures; and

• Adding a row for the recipient to certify that administrative expenses for the RWHAP Part B does not exceed allowable cap.

RWHAP Part C Expenditures Report:

• There are no proposed changes to the RWHAP Part C Expenditures Report.

RWHAP Part D Expenditures Report:

• There are no proposed changes to the RWHAP Part D Expenditures Report.

EHE Expenditures Reports:

• There are no proposed changes to the EHE Expenditures Reports.

A 60-day notice published in the Federal Register, 88 FR pp. 14626-27 (March 9, 2023). There was one comment received. There are no changes made to the information collection since the comment received is outside the scope of this information request.

Need and Proposed Use of the Information: Accurate allocation, expenditure, and service contract records of the recipients receiving RWHAP and EHE funding are critical to the implementation of the RWHAP legislation and EHE initiative appropriation language and thus are necessary for HRSA to fulfill its monitoring and oversight responsibilities.

Likely Respondents: RWHAP Part A, Part B, Part C, Part D, and EHE recipients.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Part A Expenditures Report | 52 | 1 | 52 | 4 | 208
Part B Expenditures Report | 54 | 1 | 54 | 6 | 324
Part C Expenditures Report | 346 | 1 | 346 | 4 | 1,384
Part D Expenditures Report | 116 | 1 | 116 | 4 | 464
EHE Expenditures Report | 47 | 1 | 47 | 4 | 188
Total | 615 |  | 615 |  | 2,568

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2023-11565 Filed 5-30-23; 8:45 am]

BILLING CODE 4165-15-P